OFFICE OF PERSONNEL MANAGEMENT

Federal Prevailing Rate Advisory Committee;

Cancellation of Upcoming Virtual Public Meeting

AGENCY: Office of Personnel Management.

ACTION: Notice

SUMMARY: The Federal Prevailing Rate Advisory Committee is issuing this notice to cancel the October 15, 2020, virtual public meeting scheduled to be held via teleconference, beginning at 10:00 a.m. (EDT). The original Federal Register notice announcing this virtual public meeting was published Monday, September 28, 2020, at 85 FR 60844.

FOR FURTHER INFORMATION CONTACT: Madeline Gonzalez, 202-606-2858, or email pay-leave-policy@opm.gov.

Office of Personnel Management.
Alexys Stanley,
Regulatory Affairs Analyst.

[FR Doc. 2020-22598 Filed 10-9-20; 8:45 am]

BILLING CODE 6325-49-P